DEPARTMENT OF TRANSPORTATION

Federal Transit Administration

[Safety Advisory 14-1]

Right-of-Way Worker Protection

AGENCY: Federal Transit Administration (FTA), Department of Transportation (DOT).

ACTION: Notice of Safety Advisory.

SUMMARY: On December 31, 2013, the Federal Transit Administration (FTA) issued Safety Advisory 14-1 to provide guidance to State Safety Oversight Agencies (SSOAs) and rail fixed guideway public transportation agencies on redundant protections for roadway workers in the rail transit industry, and review and revision of rules and procedures to protect roadway workers from trains and moving equipment. FTA issued this guidance in response to a number of recent accidents in the industry, and two urgent recommendations by the National Transportation Safety Board (NTSB). FTA's Safety Advisory 14-1, “Right-of-Way Worker Protection,” is available in its entirety on the agency's public Web site (http://www.fta.dot.gov/tso.html). Further, FTA has asked each SSOA to coordinate with every rail transit agency within its jurisdiction to complete and submit Appendix 1 to Safety Advisory 14-1, “Right-of-Way Worker Protection Assessment Checklist,” and to conduct formal hazard analyses regarding the presence of workers in rail transit rights-of-way.

FOR FURTHER INFORMATION CONTACT: For program matters, Thomas Littleton, Associate Administrator for Safety and Oversight, telephone (202) 366-9239 or Thomas.Littleton@dot.gov. For legal matters, Scott Biehl, Senior Counsel, telephone (202) 366-0826 or Scott.Biehl@dot.gov.

SUPPLEMENTARY INFORMATION: On December 19, 2013, the NTSB issued two urgent safety recommendations to FTA. The first, R-13-39, recommends that all rail transit agencies be required to provide redundant protection for their roadway workers, such as positive train control, secondary warning devices, or shunting devices on track. The second, R-13-40, recommends that all rail transit agencies be required to review their rules and procedures for wayside workers and revise them, as necessary, to eliminate any authorization for worker access to transit rights-of-way in which the workers are dependent solely upon themselves to provide protection from trains and moving equipment. These two NTSB recommendations follow an October 19, 2013 accident in which two workers inspecting a dip in track on the Bay Area Rapid Transit (BART) system were killed when both their backs were turned to a train traveling more than sixty miles per hour. The workers had access to the BART right-of-way under a procedure called “simple approval,” which required mere notification to the agency's operations control center—there were no other protections in place for their safety.

The two recommendations are not limited to the BART accident, however. R-13-39 and R-13-40 reflect the results of recent NTSB investigations into fatalities and serious injuries to track workers on the rail transit systems in Boston, Chicago, Houston, Miami, New York, Sacramento, and Washington, DC. October 2013 was one of the deadliest months on record for the nation's rail transit workers. Three workers were killed and two were seriously injured in two separate accidents on the rail transit right-of-way (ROW). Since 2002, 28 rail transit workers have lost their lives while working to maintain the nation's rail transit infrastructure.

We at the FTA and the U.S. Department of Transportation appreciate the urgency of the NTSB's findings, and the critical safety challenge in front of us. Over the last decade, 28 workers have been killed in accidents on the rail transit right-of-way and the systems, rules and procedures put in place to protect transit workers failed each time. We agree, wholeheartedly, with the NTSB's observation that “all rail transit systems are at risk for roadway worker fatalities and injuries.” In response, specifically, to R-13-39 and R-13-40, FTA is issuing Safety Advisory 14-1: Right-of-Way Worker Protection, to both the agencies that own and operate rail fixed guideway systems and the SSOAs that oversee the safety of those systems. Safety Advisory 14-1 is designed to support a comprehensive review of the Right-of-Way Worker Protection (“RWP”) programs already in place at rail transit agencies. It offers options and tools to enhance those programs. The guidance identifies available resources, current industry activities to improve RWPs, and a compilation of lessons learned from right-of-way worker accidents over the last decade, all of which are framed to help rail transit agencies assess their programs within the context of the broader national experience. Safety Advisory 14-1 is available in full on the Transit Safety and Oversight Web page of the FTA public Web site at http://www.fta.dot.gov/tso.html, together with the Federal Transit Administrator's Dear Colleague letter of December 31, 2013, and a letter of that same date from the FTA Associate Administrator for Safety and Oversight addressed to the SSOAs and the chief safety officers of rail transit agencies.

Additionally, FTA has asked each SSOA, in coordination with every rail transit agency within its jurisdiction, to complete and submit Appendix 1 to Safety Advisory 14-1, the “Right-of-Way Worker Protection Assessment Checklist,” no later than February 28, 2014, and to oblige every rail transit agency to conduct a formal hazard analysis for the presence of workers on its rail transit right-of-way, no later than May 16, 2014. FTA will use the data and information from the assessment checklists in conducting a broader analysis for a response to NTSB recommendation R-13-39. FTA will use the results of the formal hazard analyses in developing a full response to NTSB recommendation R-13-40. FTA has asked that the formal hazard analyses address the “simple approval” procedure at issue in the BART accident, as appropriate, as well as emergency and scheduled access in work zones and procedures for moving crews, both under traffic and in exclusive occupancy. Also, FTA has stated its interest in how SSOAs and rail transit agencies view the benefits of “lock outs” and various other redundant protections, such as positive train control, secondary warning devices, and shunting devices attached to track. Please see the summaries at http://www.ntsb.gov/doclib/recletters/2013/R-13-039-040.pdf.

FTA's issuance of Safety Advisory 14-1 is in accordance with the Federal Transit Administrator's authority to “investigate public transportation accidents and incidents and provide guidance to recipients regarding prevention of accidents and incidents.” 49 U.S.C. 5329(f)(5). The requests for information and data from the SSOAs and the rail transit agencies within their jurisdiction are based on FTA's authority to request program information pertinent to rail transit safety under the State Safety Oversight rule, 49 CFR 659.39(d).

Issued in Washington, DC this 2nd day of January, 2014.
Peter Rogoff,
Federal Transit Administrator.

[FR Doc. 2014-00076 Filed 1-7-14; 8:45 am]

BILLING CODE P